FEDERAL MARITIME COMMISSION

Notice of Agreements Filed

The Commission hereby gives notice of filing of the following agreements under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of General Counsel at (202)-523-5740 or GeneralCounsel@fmc.gov.

Agreement No.: 201447-001.

Agreement Name: CMA CGM/COSCO/ONE/OOCL MED-USEC Vessel Sharing Agreement.

Parties: CMA CGM S.A.; COSCO SHIPPING Lines Co. Ltd.; Ocean Network Express Pte. Ltd.; and Orient Overseas Container Line Limited and OOCL (Europe) Limited (acting as a single party).

Filing Party: Joshua Stein, Cozen O'Connor.

Synopsis: The Amendment would add France and Canada to the geographic scope of the agreement.

Proposed Effective Date: 1/26/2026.

Location: https://www2.fmc.gov/FMC.Agreements.Web/Public/AgreementHistory/88593.

Agreement No.: 201461.

Agreement Name: Maersk/CMA Space Charter Agreement.

Parties: CMA CGM S.A.; Maersk A/S.

Filing Party: Wayne Rohde, Cozen O'Connor.

Synopsis: The Agreement would authorize Maersk to charter space to CMA CGM in the trades between the U.S. East Coast, on the one hand, and Australia, New Zealand, Colombia and Panama, on the other hand.

Proposed Effective Date: 2/1/2026.

Location: https://www2.fmc.gov/FMC.Agreements.Web/Public/AgreementHistory/89637.

Dated: December 19, 2025.
Jennifer Everling,
Assistant Secretary.

[FR Doc. 2025-23714 Filed 12-22-25; 8:45 am]

BILLING CODE 6730-02-P